TENNESSEE VALLEY AUTHORITY

Sunshine Act Notice

Federal Register Citation of Previous Announcement: 70 FR 41472 (July 19, 2005).

Previously Announced Time and Date of Meeting: 9 a.m. (e.d.t.), Friday, July 22, 2005.

Previously Announced Place of Meeting: TVA Knoxville West Tower Auditorium, 400 West Summit Hill Drive, Knoxville, Tennessee.

Changes in the Meeting: The TVA Board of Directors has approved the addition of the following items to the previously announced agenda:

C—Energy

C4. Contract with Cameco, Inc., for purchase of uranium concentrates and uranium conversion.

C5. Contract with ConverDyn for purchase of uranium conversion services.

FOR FURTHER INFORMATION CONTACT: Please call TVA Medical relations at (865) 632-6000, Knoxville, Tennessee. Information is also available through TVA's Washington Office at (202) 898-2999.

Maureen H. Dunn,
General Counsel and Secretary of Corporation.

[FR Doc. 05-14678 Filed 7-21-05; 10:30 am]

BILLING CODE 8120-08-M